PACIFIC NORTHWEST ELECTRIC POWER AND CONSERVATION PLANNING COUNCIL

2021 Northwest Conservation and Electric Power Plan

AGENCY: Pacific Northwest Electric Power and Conservation Planning Council.

ACTION: Notice of final action.

SUMMARY: Pursuant to the Pacific Northwest Electric Power Planning and Conservation Act of 1980, the Council has formally reviewed and adopted the revised conservation and electric power plan, called the 2021 Northwest Power Plan.

ADDRESSES: The 2021 Northwest Power Plan is available for review on the Council's website at https://www.nwcouncil.org/media/filer_public/4b/68/4b681860-f663-4728-987e-7f02cd09ef9c/2021powerplan_2022-3.pdf. The supporting materials, which provide technical support and context for the elements of the power plan, are available at: https://www.nwcouncil.org/2021powerplan_sitemap/. The power plan web page, which includes links to the draft power plan, comments received on the draft power plan, and all other documents, resources, meeting materials, and more on the process to develop the 2021 Northwest Power Plan, may be found at https://www.nwcouncil.org/2021-northwest-power-plan/.

FOR FURTHER INFORMATION CONTACT: John Shurts, General Counsel, (503) 222-5161, jshurts@nwcouncil.org.

SUPPLEMENTARY INFORMATION: The Pacific Northwest Electric Power Planning and Conservation Act of 1980 (Northwest Power Act) requires the Council to adopt and periodically review and revise a regional power plan, the northwest conservation and electric power plan. The Council first adopted the power and conservation plan in 1983, with significant amendments or complete revisions adopted in 1986, 1991, 1998, 2004, 2010, and 2016. For the 2021 Northwest Power Plan, the Council formally began the review process in February 2019, and in September 2021 the Council released for public review and comment the draft power plan. During the comment period, the Council held four public hearings on the draft plan, all of them held virtually due to the limitations imposed by the Covid-19 pandemic restrictions, but with each denoted as the public hearing for one of the four states of the Council, consistent with the requirements of the Northwest Power Act. In addition, the Council engaged in consultations about the power and conservation plan with Bonneville Power Administration (Bonneville), Bonneville's utility customers, other utilities, various state, federal, tribal and local agencies and governments, public interest organizations, business and trade associations, and the public at large, and, accepted and considered substantial written and oral comments, with the Council receiving nearly 200 formal and informal written public comments on the draft plan. The Council's work on the 2021 Northwest Power Plan came in the middle of a transformation in the power system in the northwest and the western US as a whole, driven by policies and economic trends that are pushing out fossil-fueled generation, adding renewable resources with different power system characteristics, and potentially electrifying significant sectors of the economy. The Council grappled throughout the power plan process, including through consideration of the comments received on the draft, with a host of issues arising out of that transformation.

At the Council's regularly scheduled public meeting in February 2022, held in Portland, Oregon via webinar, the Council formally adopted the 2021 Northwest Power Plan. The revised power and conservation plan meets the requirements of the Northwest Power Act, which specifies the components the power plan is to have, including an energy conservation program, a recommendation for research and development; a methodology for determining quantifiable environmental costs and benefits; a 20-year demand forecast; a forecast of power resources that the Bonneville Power Administration will need to meet its obligations; and an analysis of reserve and reserve reliability requirements. The power and conservation plan also includes the Council's Columbia River Basin Fish and Wildlife Program, as amended pursuant to Section 4(h) under the Northwest Power Act prior to beginning this review of the power plan. The Council followed the adoption of the 2021 Northwest Power Plan with a decision at its regular monthly meeting in May 2022, in Whitefish, Montana, to approve a Statement of Basis and Purpose and Response to Comments to accompany the final plan.

(Authority: 16 U.S.C. 839 et seq.)

John Shurts,
General Counsel.

[FR Doc. 2022-11472 Filed 5-26-22; 8:45 am]

BILLING CODE P